DEPARTMENT OF ENERGY

Federal Energy Regulatory Commission

[Project No. 4306-017]

City of Hastings, MN; Notice of Application Accepted for Filing, Soliciting Motions To Intervene and Protests, Ready for Environmental Analysis, and Soliciting Comments, Recommendations, Terms and Conditions, and Fishway Prescriptions

April 28, 2008.

Take notice that the following hydroelectric application has been filed with the Commission and is available for public inspection:

a. Type of Application: Amendment of License.

b. Project No.: 4306-017.

c. Date Filed: April 24, 2008.

d. Applicant: City of Hastings, Minnesota.

e. Name of Project: Mississippi River Lock and Dam No. 2.

f. Location: The project would be located on the Mississippi River in the City of Hastings, which is located in Dakota County, Minnesota. The project would use the U.S. Army Corps of Engineers owned Lock and Dam No. 2. The proposed hydrokinetic devices would be located approximately 50-feet downstream of the existing hydroelectric plant's draft tubes and would be located entirely within the existing project boundary.

g. Filed Pursuant to: Federal Power Act, 16 U.S.C. 791(a)-825(r).

h. Applicant Contacts: Mr. Thomas Montgomery, P.E., Public Works Director, City of Hastings, Minnesota, 1225 Progress Drive, Hastings, MN 55033-1955, (651) 480-6188, and Mr. Wayne Krouse, Hydro Green Energy, LLC, 5090 Richmond Avenue, #390, Houston, TX 77056, (877) 556-6566.

i. FERC Contact: Kelly Houff, (202) 502-6393, and e-mail Kelly.Houff@ferc.gov.

j. Deadline for filing comments, protests, motions to intervene, recommendations, preliminary terms and conditions, and fishway prescriptions is due 60 days from the issuance date of this notice; reply comments are due 105 days from the issuance date of this notice. All documents (original and eight copies) should be filed with: Kimberly D. Bose, Secretary, Federal Energy Regulatory Commission, 888 First Street, NE., Washington, DC 20426. Please include the project number (P-4306-017) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Request: The existing licensed project consists of (1) A powerhouse containing 2 generating units rated at 2,200 kW each; (2) transmission facilities consisting of: (a) 6.6 kV generator leads; (b) two three-phase, step-up transformers; and (c) a 1,000-foot-long transmission line; and (3) appurtenant facilities.

The licensee proposes to amend the license to add: (1) Two 35 kilowatt hydrokinetic units, for a total installed capacity of 70 kilowatts, (2) two synchronous alternating current (AC) motor generating units, (3) a single 30-foot-wide by 24-foot-long floating platform or barge, which would be tethered to the existing powerhouse, dam and/or retaining wall structures, and anchored for stability. This platform would enable the hydrokinetic units to suspend from the platform and the generators to sit atop the platform, (4) a proposed 225 ampere molded case circuit breaker along with a 480-volt, three-phase feeder, which will connect the hydrokinetic units to the existing power plant distribution system, and (5) appurtenant facilities. The hydrokinetic units would have an average annual generation of 453 megawatt-hours.

l. Locations of Applications: A copy of the application is available for inspection and reproduction at the Commission in the Public Reference Room, located at 888 First Street, NE., Room 2A, Washington, DC 20426, or by calling (202) 502-8371. This filing may also be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Comments, protests, interventions, recommendations, terms and conditions, and fishway prescriptions may be filed electronically via the Internet in lieu of paper; See 18 CFR 385.2001(a)(1)(iii) and the instructions on the Commission's Web site under “e-filing” link. The Commission strongly encourages electronic filing.

o. Filing and Service of Responsive Documents: All filings must (1) Bear in all capital letters the title “PROTEST”, “MOTION TO INTERVENE”, “COMMENTS,” “REPLY COMMENTS,” “RECOMMENDATIONS,” “ TERMS AND CONDITIONS,” or “ FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). All comments, recommendations, terms and conditions or prescriptions should relate to project works which are the subject of the license amendment. Agencies may obtain copies of the application directly from the applicant. A copy of all other filings in reference to this application must be accompanied by proof of service on all persons listed in the service list prepared by the Commission in this proceeding, in accordance with 18 CFR 4.34(b) and 385.2010.

p. As provided for in 18 CFR 4.34(b)(5)(i), a license applicant must file, no later than 60 days following the date of issuance of this notice of acceptance and ready for environmental analysis: (1) A copy of the water quality certification; (2) a copy of the request for certification, including proof of the date on which the certifying agency received the request; or (3) evidence of waiver of water quality certification.

Kimberly D. Bose,
Secretary.

[FR Doc. E8-9808 Filed 5-2-08; 8:45 am]

BILLING CODE 6717-01-P